DEPARTMENT OF STATE

[Delegation of Authority No. 284]

Delegation of Authority to the Under Secretary for Political Affairs

By virtue of the authority vested in me as Secretary of State, including the authority of section 1 of the State Department Basic Authorities Act, as amended (22 U.S.C. 2651a), I hereby delegate to the Under Secretary for Political Affairs, to the extent authorized by law, all authorities and functions vested in the Secretary of State or the head of agency by any act, order, determination, delegation of authority, regulation, or executive order, now or hereafter issued. This delegation includes all authorities and functions that have been or may be delegated or redelegated to other Department officials but does not repeal delegations to such officials.

This delegation shall apply when both the Secretary of State and the Deputy Secretary of State are absent or otherwise unavailable or when either the Secretary or the Deputy requests that the Under Secretary exercise such authorities and functions.

Notwithstanding this delegation of authority, the Secretary of State and the Deputy Secretary of State may exercise any function or authority delegated by this delegation.

This memorandum shall be published in the Federal Register.

Dated: August 26, 2005.
Condoleezza Rice,
Secretary of State, Department of State.

[FR Doc. 05-17808 Filed 9-7-05; 8:45 am]

BILLING CODE 4710-11-P